DEPARTMENT OF COMMERCE

U.S. Census Bureau

Proposed Information Collection; Comment Request; Annual Survey of Manufactures Management and Organizational Practices Module

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 30, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Mendel D. Gayle, Census Bureau, 4600 Silver Hill Rd., Rm 7K055, Washington, DC 20233, (301) 763-4587 or via the Internet at mendel.d.gayle@census.gov.

SUPPLEMENTARY INFORMATION:

I. Abstract

The Census Bureau plans to conduct the Annual Survey of Manufactures (ASM) Management and Organizational Practices Module for survey year 2010 with subsequent data collection activities for this survey pending funding. The Census Bureau has conducted the Annual Survey of Manufactures (ASM) since 1949 to provide key measures of manufacturing activity during intercensal periods. In census years ending in “2” and “7”, we mail and collect the ASM as part of the Economic Census covering the Manufacturing Sector. This survey is an integral part of the Government's statistical program. The ASM furnishes up-to-date estimates of employment and payroll, hours and wages of production workers, value added by manufacture, cost of materials, value of shipments by product class, inventories, and expenditures for both plant and equipment and structures. This survey module would utilize the ASM survey panel collecting information on management and organizational practices at the establishment level. The data obtained from the module will allow us to estimate a firm's stock of management and organizational assets, specifically the use of decentralized decision rights and greater investments in human capital. The results will provide information on investments in organizational practices thus gain a better understanding of the benefits from these investments when measured in terms of firm productivity or firm market value.

A manufacturing sector establishment based survey on management and organizational practices would provide information on the dimensions of organizational capital for this sector not currently available. This ASM clearance request will be for the year 2010.

II. Method of Collection

The ASM Management and Organizational Practices Module will be mailed separately from the ASM and utilize mail out/mail back survey forms. The mail portion will be comprised of a probability sample of approximately 50,000 manufacturing establishments from a frame of approximately 225,000 establishments. These 225,000 establishments were all manufacturing establishments of multiunit companies (companies with operations at more than one location) and all single-location manufacturing companies that were mailed in the 2007 Census of Manufacturing.

III. Data

OMB Control Number: None.

Form Number: MA-10002.

Type of Review: Regular submission.

Affected Public: Business or Other for Profit, Non-profit Institutions, Small Businesses or Organizations, and State or Local Governments.

Estimated Number of Respondents: 50,000.

Estimated Time per Response: 30 minutes.

Estimated Total Annual Burden Hours: 25,000.

Estimated Total Annual Cost: The estimated cost to the respondents is $643,000.

Respondent's Obligation: Mandatory.

Legal Authority: Title 13, United States Code, sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 24, 2009.
Glenna Mickelson,
Management Analyst, Office of the Chief Information Officer.

[FR Doc. E9-23531 Filed 9-29-09; 8:45 am]

BILLING CODE 3510-09-P